DEPARTMENT OF TRANSPORTATION

Coast Guard

46 CFR Part 67

[USCG-1999-6095]

RIN 2115-AF88

Citizenship Standards for Vessel Ownership and Financing; American Fisheries Act; Correction

AGENCY: Coast Guard, DOT.

ACTION: Correction to proposed rule.

SUMMARY: This document corrects the heading and preamble to a notice of proposed rulemaking published in the Federal Register of July 27, 2000. The rule proposed amending citizenship requirements for fishing vessels of less than 100 feet in length that are eligible for a fishery endorsement. This correction clarifies the correct docket number and Regulation Identification Number (RIN) for this rulemaking.

FOR FURTHER INFORMATION CONTACT: For questions on this proposed rule, call Patricia J. Williams, Coast Guard, telephone 304-271-2400. For questions on viewing or submitting material to the docket, call Dorothy Beard, Chief, Dockets, Department of Transportation, telephone 202-366-9329.

Need for Correction

As published, the notice of proposed rulemaking contains errors that create confusion for the Docket Management Facility and for you, if you are addressing the notice with your comments.

Correction

In proposed rule FR Doc. 00-18941, beginning on page 46137 in the issue of July 27, 2000, make the following corrections:

1. In the heading on page 46137, in second column, replace the Regulation Identification Number (RIN) with 2115-AF88.

2. In the heading on page 46137, in the second column, replace the Agency Docket Number with USCG-1999-6095.

3. On page 46137, in the second and third columns, under the ADDRESSES and “Request for Comments” headings respectively, replace (USCG-1999-6713) with (USCG-1999-6095).

Dated: August 9, 2000.
Joseph J. Angelo,
Director of Standards, Acting Assistant Commandant for Marine Safety and Environmental Protection.

[FR Doc. 00-20593 Filed 8-11-00; 8:45 am]

BILLING CODE 4910-15-U